FEDERAL COMMUNICATIONS COMMISSION

47 CFR Part 54

[WC Docket Nos. 18-143; 10-90; Report No. 3196; FR ID 151047]

Petition for Reconsideration of Action in Rulemaking Proceeding

AGENCY: Federal Communications Commission.

ACTION: Petition for reconsideration.

SUMMARY: Petition for Reconsideration (Petition) has been filed in the Commission's proceeding The Uniendo a Puerto Rico Fund and the Connect USVI Fund.

DATES: Oppositions to the Petition must be filed on or before July 17, 2023. Replies to oppositions must be filed on or before July 10, 2023.

ADDRESSES: Federal Communications Commission, 45 L Street NE, Washington, DC 20554.

FOR FURTHER INFORMATION CONTACT: For additional information on this proceeding, contact Nathan Eagan of the Wireline Competition Bureau, Telecommunications Access Policy Division, at (202) 418-0991 or Nathan.Eagan@fcc.gov or Dangkhoa Nguyen of the Wireline Competition Bureau, Telecommunications Access Policy Division at (202) 418-7865 or Dangkhoa.Nguyen@fcc.gov.

SUPPLEMENTARY INFORMATION: This is a summary of the Commission's document, Report No. 3196, released June 21, 2023. The full text of the Petition can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: The Uniendo a Puerto Rico Fund and the Connect USVI Fund (WC Docket Nos. 18-143; 10-90).

Number of Petitions Filed: 1.

Federal Communications Commission.
Marlene Dortch,
Secretary, Office of the Secretary.

[FR Doc. 2023-13972 Filed 6-29-23; 8:45 am]

BILLING CODE 6712-01-P